DEPARTMENT OF ENERGY

Federal Energy Regulatory Commission

[Docket No. RM01-5-000]

Electronic Tariff Filings; Notice of Revised Implementation Guide for Electronic Filing

December 18, 2009.

In Order No. 714,¹ the Commission adopted regulations requiring tariff and tariff related filings to be made electronically starting April 1, 2010. Instructions on how to assemble an electronic filing are provided in Implementation Guide for Electronic Filing of Parts 35, 154, 284, 300, and 341 Tariff Filings, located at http://www.ferc.gov/docs-filing/etariff.asp.

¹ Electronic Tariff Filings, Order No. 714, 73 FR 57,515 (Oct. 3, 2008), 124 FERC ¶ 61,270, FERC Stats. & Regs [Regulations Preambles] ¶ 31,276 (2008) (Sept. 19, 2008).

Take notice that the Implementation Guide has been revised as follows (changes are marked by redline in the document):

1. The date to be used by filers that are not proposing a specific effective date has been changed from 12/31/9999 to 12/31/9998 due to Commission software constraints.

2. The Implementation Guide as been revised to clarify the usage of the “Withdraw Type of Filing Category” and the “Withdraw Record Change Type”.

a. The description of the “Withdraw Type of Filing” category has been modified to reflect §§ 35.17(a) and 154.205(a) of the Commission's regulations, as adopted in Order No. 714. The revision clarifies that the Type of Filing category of “Withdraw” is the equivalent of a request to withdraw the complete associated tariff filing, not individual components of thereof.

b. The description of the “Withdraw Record Change Type” has been modified to reflect the ability to withdraw a specific tariff record without withdrawing the entire filing.

3. Discussion of the Company Identifier and password have been coordinated with the October 23, 2009 Notice regarding Company Registration and related Instructions for Company Registration. These instructions are located at http://www.ferc.gov/docs-filing/company-reg.asp. The revisions reflect the October 23, 2009 Notice's implementation of Company Identifiers and passwords, and the treatment of the Company Identifiers as public information.

For more information, please contact Keith Pierce, Office of Energy Market Regulation at (202) 502-8525 for technical information, or Anthony Barracchini, Office of the Executive Director, (202) 502-8920 for software information, or send an e-mail to ETariff@ferc.gov.

Kimberly D. Bose,
Secretary.

[FR Doc. E9-30808 Filed 12-28-09; 8:45 am]

BILLING CODE 6717-01-P